DEPARTMENT OF HOMELAND SECURITY

Federal Emergency Management Agency

44 CFR Part 65

[Docket No. FEMA-P-7628]

Changes in Flood Elevation Determinations

AGENCY: Federal Emergency Management Agency, Emergency Preparedness and Response Directorate, Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Map(s) in effect prior to this determination for the listed communities.

From the date of the second publication of these changes in a newspaper of local circulation, any person has ninety (90) days in which to request through the community that the Mitigation Division Director of the Emergency Preparedness and Response Directorate reconsider the changes. The modified BFEs may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

The changes in BFEs are in accordance with 44 CFR 65.4.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Arkansas:
Benton (Case No. 02-06-152P) | Unincorporated Areas | Aug. 29, 2003; Sept. 5, 2003; Benton County Daily Record | The Honorable Gary D. Black, Judge, Benton County, 215 East Central, Bentonville, AR 72712 | Dec. 5, 2003 | 050419
Lonoke (Case No. 03-06-676P) | City of Cabot | Aug. 20, 2003; Aug. 27, 2003; Cabot Star-Herald | The Hon. Mickey D. Stumbaugh, Mayor, City of Cabot, 101 N. Second Street, P.O. Box 1113, Cabot, AR 72023 | Nov. 26, 2003 | 050309
Washington (Case No. 02-06-2147P) | City of Springdale | Aug. 20, 2003; Aug. 27, 2003; The Morning News | The Honorable Jerre Van Hoose, Mayor, City of Springdale, 201 Spring Street, Springdale, AR 72764 | Nov. 26, 2003 | 050219
Illinois:
Will (Case No. 03-05-0430P) | Village of Mokena | Aug. 7, 2003; Aug. 14, 2003; The Lincoln Way Sun | The Honorable Robert Chiszar, Mayor, Village of Mokena, 11004 Carpenter Street, Mokena, IL 60448 | Nov. 13, 2003 | 170705
Will (Case No. 03-05-2575P) | Village of Plainfield | Sept. 10, 2003; Sept. 17, 2003; The Enterprise | The Honorable Richard Rock, Mayor, Village of Plainfield, 24000 W. Lockport Street, Plainfield, IL 60544 | Aug. 20, 2003 | 170771
Will (Case No. 03-05-0430P) | Unincorporated Areas | Aug. 7, 2003; Aug. 14, 2003; The Lincoln Way Sun | Mr. Joseph Mikan, Will County Executive, 302 North Chicago Street, Joliet, IL 60432 | Nov. 13, 2003 | 170695
Indiana:
Marion (Case No. 03-05-1461P) | City of Indianapolis | Sept. 22, 2003; Sept. 29, 2003; The Indianapolis Star | The Honorable Barthen Peterson, Mayor, City of Indianapolis, 200 East Washington Street, Suite 2501, City-County Building, Indianapolis, IN 46204 | Dec. 29, 2003 | 180159
Kansas:
Sedgwick (Case No. 03-07-883P) | City of Derby | Sept. 5, 2003; Sept. 12, 2003; The Derby Reporter | The Honorable Dion Avello, Mayor, City of Derby, Derby City Hall, 611 Mulberry Road, Derby, KS 67037 | Dec. 12, 2003 | 200323
Riley (Case No. 03-07-497P) | City of Manhattan | Sept. 5, 2003; Sept. 12, 2003; The Manhattan Mercury | The Honorable Mark Taussig, Mayor, City of Manhattan, City Hall, 1101 Poyntz Avenue, Manhattan, KS 66502-5497 | Dec. 12, 2003 | 200300
Johnson (Case No. 02-07-1011P) | City of Olathe | Jan. 21, 2003; Jan. 28, 2003; The Olathe News | The Honorable Michael Copeland, Mayor, City of Olathe, 126 South Cherry, Olathe, KS 66061 | Apr. 29, 2003 | 200173
Michigan:
Ingham Eaton, & Clinton (Case No. 03-05-1475P) | City of Lansing | Sept. 5, 2003; Sept. 12, 2003; Lansing State Journal | The Honorable Tony Benavides, Mayor, City of Lansing, 9th Floor, City Hall, 124 W. Michigan Avenue, Lansing, MI 48933 | Dec. 12, 2003 | 260090
Jackson (Case No. 02-05-3653P) | Township of Summit | Sept. 23, 2003; Sept. 30, 2003; Jackson Citizen Patriot | Mr. Russ Youngdahl, Supervisor, Township of Summit, 2121 Ferguson Road, Jackson, MI 49203 | Sept. 2, 2003 | 260575
Missouri:
St. Louis (Case No. 03-07-106P) | City of Hazelwood | Sept. 1, 2003; Sept. 8, 2003; St. Louis Post Dispatch | The Honorable T.R. Carr, Mayor, City of Hazelwood, 415 Elm Grove Lane, Hazelwood, MO 63042-1917 | Aug. 19, 2003 | 290357
New Mexico:
Bernalillo (Case No. 03-06-1002P) | City of Albuquerque | Aug. 29, 2003; Sept. 5, 2003; Albuquerque Journal | The Honorable Martin Chavez, Mayor, City of Albuquerque, P.O. Box 1293, Albuquerque, NM 87103 | Aug. 15, 2003 | 350002
Bernalillo (Case No. 03-06-445P) | City of Albuquerque | Sept. 19, 2003; Sept. 26, 2003; Albuquerque Journal | The Honorable Martin Chavez, Mayor, City of Albuquerque, P.O. Box 1293, Albuquerque, NM 87103 | Sept. 8, 2003 | 350002
Bernalillo (Case No. 03-06-445P) | Unincorporated Areas | Sept. 19, 2003; Sept. 26, 2003; Albuquerque Journal | Mr. Tom Rutherford, Chairman, Bernalillo County, One Civic Plaza, N.W., Albuquerque, NM 87102 | Sept. 8, 2003 | 350001
Dona Ana (Case No. 03-06-1210P) | City of Las Cruces | Sept. 1, 2003; Sept. 8, 2003; Las Cruces Sun News | The Hon. William M. Mattiace, Mayor, City of Las Cruces, P.O. Box 20000, Las Cruces, NM 88004 | Aug. 15, 2003 | 355332
Ohio:
Lorain (Case No. 03-05-0530P) | City of Avon | Sept. 24, 2003; Oct. 1, 2003; The Morning Journal | The Honorable James A. Smith, Mayor, City of Avon, 36080 Chester Road, Avon, OH 44011-1588 | Sept. 15, 2003 | 390348
Oklahoma:
Comanche (Case No. 03-06-076P) | City of Lawton | Aug. 1, 2003; Aug. 8, 2003; The Lawton Constitution | The Honorable Cecil E. Powell, Mayor, City of Lawton, 103 Southwest 4th Street, Lawton, OK 73501 | July 18, 2003 | 400049
Oklahoma, (Case No. 03-06-1389P) | City of Oklahoma City | Aug. 20, 2003; Aug. 27, 2003 The Daily Oklahoman | The Honorable Kirk Humphreys, Mayor, City of Oklahoma City, 200 North Walker, 3rd Floor, Oklahoma City, OK 73102 | Aug. 1, 2003 | 405378
Tulsa (Case No. 03-06-1939P) | City of Tulsa | Sept. 23, 2003; Sept. 30, 2003; Tulsa World | The Honorable Bill LaFortune, Mayor, City of Tulsa, City Hall, 200 Civic Center, Tulsa, OK 74103 | Dec. 30, 2003 | 405381
Texas:
Taylor And Jones (Case No. 03-06-198P) | City of Abilene | Aug. 18, 2003; Aug. 25, 2003; The Abilene Reporter-News | The Honorable Grady Barr, Mayor, City of Abilene, P.O. Box 60, Abilene, TX 79604 | Nov. 24, 2003 | 485450
Tarrant (Case No. 03-06-1010P) | City of Arlington | Aug. 13, 2003; Aug. 20, 2003; Arlington Morning-News | The Honorable Robert Cluck, Mayor, City of Arlington, 101 West Abram Street, Arlington, TX 76004 | July 22, 2003 | 485454
Jefferson (Case No. 02-06-2312P) | City of Beaumont | Aug. 13, 2003; Aug. 20, 2003; Beaumont Enterprise | The Honorable Evelyn M. Lord, Mayor, City of Beaumont, P.O. Box 3827, Beaumont, TX 77704 | Nov. 19, 2003 | 485457
Tarrant (Case No. 03-06-1203P) | City of Fort Worth | Aug. 13, 2003; Aug. 20, 2003; The Star Telegram | The Hon. Michael J. Moncrief, Mayor, City of Fort Worth, 1000 Throckmorton Street, Fort Worth, TX 76102-6311 | Nov. 19, 2003 | 480596
Tarrant (Case No. 03-06-276P) | City of Fort Worth | Aug. 22, 2003; Aug. 29, 2003; The Star Telegram | The Hon. Michael J. Moncrief, Mayor, City of Fort Worth, 1000 Throckmorton Street, Fort Worth, TX 76102-6311 | Nov. 28, 2003 | 480596
Tarrant (Case No. 03-06-1206P) | City of Fort Worth | Aug. 22, 2003; Aug. 29, 2003; The Star Telegram | The Hon. Michael J. Moncrief, Mayor, City of Fort Worth, 1000 Throckmorton Street, Fort Worth, TX 76102-6311 | Nov. 28, 2003 | 480596
Tarrant (Case No. 03-06-1202P) | City of Fort Worth | Aug. 29, 2003; Sept. 5, 2003; The Star Telegram | The Hon. Michael J. Moncrief, Mayor, City of Fort Worth, 1000 Throckmorton Street, Fort Worth, TX 76102-6311 | Dec. 5, 2003 | 480596
Williamson (Case No. 03-06-695P) | City of Georgetown | Aug. 20, 2003; Aug. 27, 2003; Williamson County Sun | The Honorable Gary Nelon, Mayor, City of Georgetown, P.O. Box 409, Georgetown, TX 78627 | Nov. 26, 2003 | 480668
Tarrant (Case No. 03-06-1214P) | City of Hurst | July 25, 2003; Aug. 1, 2003; The Star Telegram | The Honorable William D. Souder, Mayor, City of Hurst, 1505 Precinct Line Road, Hurst, TX 76054-3302 | Oct. 31, 2003 | 480601
Kaufman (Case No. 03-06-1932P) | Unincorporated Areas | Sept. 9, 2003; Sept. 16, 2003; The Terrell Tribune | The Honorable Wayne Gent, Judge, Kaufman County, 100 West Mulberry Street, Kaufman, TX 75142 | Dec. 16, 2003 | 480411
Hays (Case No. 03-06-1537P) | City of Kyle | Sept. 3, 2003; Sept. 10, 2003; The Kyle Eagle | The Honorable James L. Adkins, Mayor, City of Kyle, 102 Briarwood Circle, Kyle, TX 78640 | Aug. 18, 2003 | 481108
Dallas (Case No. 03-06-1543P) | City of Mesquite | Aug. 28, 2003; Sept. 4, 2003; Mesquite Morning News | The Honorable Mike Anderson, Mayor, City of Mesquite, P.O. Box 850137, Mesquite, TX 75185 | Dec. 4, 2003 | 485490
Bexar (Case No. 03-06-683P) | City of San Antonio | July 24, 2003; July 31, 2003; San Antonio Express News | The Honorable Ed Garza, Mayor, City of San Antonio, P.O. Box 839966, San Antonio, TX 78283-3966 | July 14, 2003 | 480045
Bexar (Case No. 02-06-1947P) | City of San Antonio | Jan. 24, 2003; Jan. 31, 2003; San Antonio Express News | The Honorable Ed Garza, Mayor, City of San Antonio, P.O. Box 839966, San Antonio, TX 78283 | May 2, 2003 | 480045
Kaufman (Case No. 03-06-1932P) | City of Terrell | Sept. 9, 2003; Sept. 16, 2003; The Terrell Tribune | The Honorable Frances Anderson, Mayor, City of Terrell, 201 East Nash Street, Terrell, TX 75160 | Dec. 16, 2003 | 480416
Williamson (Case No. 03-06-695P) | Unincorporated Areas | Aug. 20, 2003; Aug. 27, 2003; Williamson County Sun | The Honorable John C. Doerfler, Judge, Williamson County, 710 Main Street, Suite 201, Georgetown, TX 78626 | Nov. 26, 2003 | 481079
Wisconsin:
Washington (Case No. 03-05-1465P) | Village of Germantown | Aug. 20, 2003; Aug. 27, 2003; Germantown Banner-Press | Mr. Charles J. Hargan, President, Village of Germantown, P.O. Box 337, Germantown, WI 53022 | Aug. 11, 2003 | 550472

Dated: November 4, 2003.
(Catalogue of Federal Domestic Assistance No. 83.100, “Flood Insurance.”)
Anthony S. Lowe,
Mitigation Division Director, Emergency Preparedness and Response Directorate.

[FR Doc. 03-28639 Filed 11-14-03; 8:45 am]

BILLING CODE 9910-12-P